DEPARTMENT OF HOMELAND SECURITY

Federal Emergency Management Agency

44 CFR Part 67

[Docket No. FEMA-B-1024]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before March 16, 2009.

ADDRESSES: The corresponding preliminary Flood Insurance Rate Map (FIRM) for the proposed BFEs for each community are available for inspection at the community's map repository. The respective addresses are listed in the table below.

You may submit comments, identified by Docket No. FEMA-B-1024, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or.(e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground: Effective | * Elevation in feet (NGVD) + Elevation in feet (NAVD) # Depth in feet above ground: Modified | Communities affected
Ventura County, California, and Incorporated Areas
Arroya Santa Rosa | At the confluence with Conejo Creek | +232 | +233 | Unincorporated Areas of Ventura County.
| Approximately 0.6 mile upstream of East Las Posas Road | +381 | +378
Arroyo Santa Rosa Tributary | At the confluence with Arroyo Santa Rosa | +258 | +250 | Unincorporated Areas of Ventura County.
| Approximately 400 feet upstream of Santa Rosa Road | None | +379
Calleguas Creek | Approximately 100 feet downstream of U.S. Highway 101 | +141 | +143 | Unincorporated Areas of Ventura County, City of Camarillo.
| Approximately 0.9 mile upstream of Seminary Road | +241 | +248
Camarillo Hills Drain | Approximately 40 feet upstream of West Ventura Boulevard | +92 | +95 | City of Camarillo.
| At Arneill Road | None | +185
Edgemore Drain | At the confluence with Camarillo Hills Drain | None | +117 | City of Camarillo.
| Approximately 520 feet upstream of Getman Street | None | +153
Mission Drain | At the confluence with Camarillo Hills Drain | None | +132 | City of Camarillo.
| Approximately 430 feet downstream of Mission Drive | None | +173
Peach Hill Wash | At the confluence with Arroyo Simi | +427 | +426 | City of Moorpark, Unincorporated Areas of Ventura County.
| Approximately 1,170 feet upstream of Country Hill Road | +475 | +477
Somis Drain | At the confluence with Calleguas Creek | +165 | +168 | City of Camarillo.
| At Las Posas Road | None | +203
West Camarillo Hills Tributary | At the confluence with Camarillo Hills Drain | None | +124 | City of Camarillo.
| Approximately 20 feet downstream of Las Posas Road | None | +155
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Camarillo
Maps are available for inspection at Camarillo City Hall, 601 Carmen Drive, Camarillo, CA.
City of Moorpark
Maps are available for inspection at Moorpark City Hall, 799 Moorpark Avenue, Moorpark, CA.
Unincorporated Areas of Ventura County
Maps are available for inspection at Ventura County Hall of Administration, 800 South Victoria Avenue, Ventura, CA.
Gage County, Nebraska, and Incorporated Areas
Big Blue River | Approximately 900 feet upstream of State Highway 8 | None | +1195 | Unincorporated Areas of Gage County.
| Approximately 0.5 mile upstream of State Highway 8 | None | +1196
Big Blue River Tributary 44 | Upstream of South 25th Street | +1254 | +1261 | City of Beatrice.
| Downstream of Scott Street | None | +1273
Big Blue River backwater on Bills Creek | Approximately 1,200 feet downstream of South A Street | None | +1217 | City of Wymore.
| Approximately 600 feet downstream of South A Street | None | +1217
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Beatrice
Maps are available for inspection at City Hall, 400 Ella Street, Beatrice, NE 68310.
City of Wymore
Maps are available for inspection at City Office, 115 West East Street, Wymore, NE 68466.
Unincorporated Areas of Gage County
Maps are available for inspection at Gage County Highway Department, 823 South 8th Street, Beatrice, NE 68310.
Jackson County, North Carolina, and Incorporated Areas
Bumgarner Branch | At the confluence with Mill Creek (into Tuckasegee River) | None | +2114 | Town of Sylva, Unincorporated Areas of Jackson County.
| Approximately 1,200 feet upstream of Big Orange Way | None | +2136
Tuckasegee River | Approximately 150 feet downstream of the Jackson/Swain County boundary | None | +1835 | Town of Dillsboro, Unincorporated Areas of Jackson County.
| The confluence of Greenland Creek and Panthertown Creek | None | +3654
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Dillsboro
Maps are available for inspection at Dillsboro Town Office, 42 Front Street, Dillsboro, NC.
Town of Sylva
Maps are available for inspection at Sylva Town Hall, 83 Allen Street, Sylva, NC.
Unincorporated Areas of Jackson County
Maps are available for inspection at Jackson County Inspections Department, 401 Grindstaff Cove Road, Suite 105, Sylva, NC.
Pottawatomie County, Oklahoma, and Incorporated Areas
Tributary #1 to Rock Creek | Confluence with Rock Creek and Tributary #1 to Rock Creek | +973 | +974 | City of Shawnee.
| Approximately 1,565 feet upstream of Kickapoo Street | +985 | +986
Tributary #1 to Tributary #2 to Rock Creek | Approximately 500 feet downstream of Union Street | None | +989 | City of Shawnee.
| Intersection of 45th Street and Tributary #1 to Tributary #2 to Rock Creek | None | +1021
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Shawnee
Maps are available for inspection at County Courthouse, 325 N. Broadway, Shawnee, OK 74801.
Monroe County, Tennessee, and Incorporated Areas
Sweetwater Creek | 121 feet upstream of State Highway 322 | +903 | +908 | City of Sweetwater.
| 290 feet downstream of State Highway 68 | +917 | +918
| 1,655 feet upstream of State Highway | None | +920
Sweetwater Creek | 1,430 feet downstream of North Main Street | None | +888 | Unincorporated Areas of Monroe County, City of Sweetwater.
| 248 Feet Upstream of State Highway | None | +920
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Sweetwater
Maps are available for inspection at 203 Monroe Street, Sweetwater, TN 37874.
Unincorporated Areas of Monroe County
Maps are available for inspection at 310 Tellico Street, Suite 2, Madisonville, TN 37354.

(Catalog of Federal Domestic Assistance No. 97.022, “Flood Insurance.”)

Dated: December 5, 2008.
Michael K. Buckley,
Acting Assistant Administrator, Mitigation Directorate, Department of Homeland Security, Federal Emergency Management Agency.

[FR Doc. E8-29763 Filed 12-15-08; 8:45 am]

BILLING CODE 9110-12-P